DEPARTMENT OF COMMERCE

International Trade Administration

[C-533-864]

Certain Corrosion-Resistant Steel Products From India: Final Results of the Expedited First Sunset Review of the Countervailing Duty Order

AGENCY: Enforcement and Compliance, International Trade Administration, Department of Commerce.

SUMMARY: The Department of Commerce (Commerce) finds that revocation of the countervailing duty (CVD) order on certain corrosion-resistant steel products (CORE) from India would be likely to lead to the continuation or recurrence of countervailable subsidies at the levels indicated in the “Final Results of Sunset Review” section of this notice.

DATES: Applicable October 5, 2021.

FOR FURTHER INFORMATION CONTACT: Nathan James, AD/CVD Operations, Office V, Enforcement and Compliance, International Trade Administration, U.S. Department of Commerce, 1401 Constitution Avenue NW, Washington, DC 20230; telephone: (202) 482-5305.

SUPPLEMENTARY INFORMATION:

Background

On July 25, 2016, Commerce published in the Federal Register the CVD order on CORE from India.¹ On July 1, 2021, Commerce published the notice of initiation of the first sunset review of the CVD order on CORE from India, pursuant to section 751(c) of the Tariff Act of 1930, as amended (the Act).² In June 2021, Commerce received timely notices of intent to participate from California Steel Industries (CSI), Cleveland-Cliffs Inc., Nucor Corporation (Nucor), Steel Dynamics Inc. (SDI), and United States Steel Corporation (U.S. Steel) (collectively, domestic interested parties).³ The companies claimed interested party status under section 771(9)(C) of the Act as domestic producers of CORE.

¹ See Certain Corrosion-Resistant Steel Products from India, Italy, Republic of Korea and the People's Republic of China: Countervailing Duty Order, 81 FR 48387 (July 25, 2016).

² See Initiation of Five-Year (Sunset) Reviews, 86 FR 29239 (June 1, 2021).

³ See Cleveland-Cliffs' Letter, “Five-Year (“Sunset”) Review of Countervailing Duty Order On Corrosion-Resistant Steel Products From India: Notice Of Intent To Participate In Sunset Review,” dated June 14, 2021; U.S. Steel's Letter, “Five-Year (“Sunset”) Review of Antidumping and Countervailing Duty Orders on Corrosion-Resistant Steel Products from India: Notice of Intent to Participate,” dated June 16, 2021; CSI/SDI's Letter, “Notice of Intent to Participate in the First Five-Year Review of the Countervailing Duty Order on Certain Corrosion-Resistant Steel Products from India,” dated June 16, 2021; and Nucor's Letter, “Certain Corrosion-Resistant Steel Products from India: Notice of Intent to Participate in Sunset Review,” dated June 16, 2021.

On July 1, 2021, Commerce received a timely and adequate substantive response from the domestic interested parties.⁴ We received no substantive responses from any other interested parties, including the Government of India, nor was a hearing requested. On July 22, 2021, Commerce notified the U.S. International Trade Commission that it did not receive an adequate substantive response from respondent interested parties.⁵ As a result, pursuant to 751(c)(3)(B) of the Act and 19 CFR 351.218(e)(1)(ii)(C)(2), Commerce conducted an expedited (120-day) sunset review of the CVD order on CORE from India.

⁴ See Domestic Interested Parties' Letter, “First Five-Year (“Sunset”) Review of Countervailing Duty Order on Corrosion-Resistant Steel Products from India: Domestic Industry's Substantive Response to Notice of Initiation,” dated July 1, 2021.

⁵ See Commerce's Letter, “Sunset Reviews Initiated on June 1, 2021,” dated July 22, 2021.

Scope of the Order

The product covered by the order is CORE. For a full description of the scope, see the Issues and Decision Memorandum.⁶

⁶ See Memorandum, “Issues and Decision Memorandum for the Final Results of the Expedited First Sunset Review of the Countervailing Duty Order on Certain Corrosion-Resistant Steel Products from India,” dated concurrently with, and hereby adopted by, this notice (Issues and Decision Memorandum).

Analysis of Comments Received

All issues raised in this sunset review are addressed in the accompanying Issues and Decision Memorandum, which is hereby adopted by this notice. The issues discussed in the Issues and Decision Memorandum are the likelihood of continuation or recurrence of a countervailable subsidy, the net countervailable subsidy rate likely to prevail if the order were revoked, and the nature of the subsidy programs. A list of the topics discussed in the Issues and Decision Memorandum is attached as an appendix to this notice.

The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/.

Final Results of Sunset Review

Pursuant to sections 751(c)(1) and 752(b) of the Act, Commerce determines that revocation of the CVD order on CORE from India would be likely to lead to the continuation or recurrence of countervailable subsidies at the rates listed below:

Producer/exporter | Net subsidy rate (percent)
JSW Steel Limited and JSW Steel Coated Products Limited | 6.69
Uttam Galva Steels Limited and Uttam Value Steels Limited | 530.74
All Others | 6.12

Notification Regarding Administrative Protective Order (APO)

This notice also serves as the only reminder to parties subject to an APO of their responsibility concerning the destruction of proprietary information disclosed under APO in accordance with 19 CFR 351.305. Timely notification of the return or destruction of APO materials or conversion to judicial protective order is hereby requested. Failure to comply with the regulations and terms of an APO is a sanctionable violation.

Notification to Interested Parties

We are issuing and publishing these results in accordance with sections 751(c), 752(b), and 777(i)(1) of the Act and 19 CFR 351.218.

Dated: September 29, 2021.
Christian Marsh,
Acting Assistant Secretary for Enforcement and Compliance.

Appendix

List of Topics Discussed in the Issues and Decision Memorandum

I. Summary

II. Background

III. Scope of the Order

IV. History of Order

V. Legal Framework

VI. Discussion of the Issues

1. Likelihood of Continuation or Recurrence of a Countervailable Subsidy

2. Net Countervailable Subsidy Rates That Are Likely to Prevail

3. Nature of the Subsidies

VII. Final Results of the Review

VIII. Recommendation

[FR Doc. 2021-21660 Filed 10-4-21; 8:45 am]

BILLING CODE 3510-DS-P